SMALL BUSINESS ADMINISTRATION

[Disaster Declaration #12634 and #12635]

New York Disaster Number NY-00105

AGENCY: U.S. Small Business Administration.

ACTION: Amendment 1.

SUMMARY: This is an amendment of the Presidential declaration of a major disaster for Public Assistance Only for the State of New York (FEMA-1993-DR), dated 06/10/2011 .

Incident: Severe Storms, Flooding, Tornadoes, and Straight-Line Winds.

Incident Period: 04/26/2011 through 05/08/2011.

Effective Date: 06/29/2011.

Physical Loan Application Deadline Date: 08/09/2011.

Economic Injury (EIDL) Loan Application Deadline Date: 03/12/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of New York, dated 06/10/2011, is hereby amended to include the following areas as adversely affected by the disaster.

Primary Counties: Livingston, Wyoming.

All other information in the original declaration remains unchanged.

(Catalog of Federal Domestic Assistance Numbers 59002 and 59008)

James E. Rivera,
Associate Administrator for Disaster Assistance.

[FR Doc. 2011-17318 Filed 7-8-11; 8:45 am]

BILLING CODE 8025-01-P